DEPARTMENT OF ENERGY

Federal Energy Regulatory Commission

[Docket No. IC07-549B-000; FERC-549B]

Commission Information Collection Activities, Proposed Collection; Comment Request; Extension

March 12, 2007.

AGENCY: Federal Energy Regulatory Commission, DOE.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due May 22, 2007.

ADDRESSES: Copies of sample filings of the proposed collection of information can be obtained from the Commission's Web site (http://www.ferc.gov/docs-filing/efiling.asp) or from the Federal Energy Regulatory Commission, Attn: Michael Miller, Office of the Executive Director, ED-34, 888 First Street, NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC07-549B-000.

Documents filed electronically via the Internet must be prepared in WordPerfect, MS Word, Portable Document Format, or ASCII format. To file the document, access the Commission's Web site at http://www.ferc.gov, go to the tab labeled Documents and Filing, choose eFiling from the drop-down list and follow the instructions given. First time users will need to establish a user name and password. The Commission will send an automatic acknowledgement to the sender's e-mail address upon receipt of comments.

All comments may be viewed, printed or downloaded remotely via the Internet through the Commission's homepage using the eLibrary link. For user assistance, contact FERConlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-549B “Gas Pipeline Rates: Capacity Information” (OMB No. 1902-0169) includes both the Index of Customers Report under 18 CFR 284.13(c) and capacity reporting requirements under 18 CFR 284.13(b) and 284.13(d). This information is used by the Commission to implement the statutory provisions of sections 4, 5, and 16 of the NGA, 15 U.S.C. 717c-717o, PL 75-688, 52 Stat. 822 and 830 and Title III of the NGPA, 15 U.S.C. 3301-3432, PL. 95-621.

Capacity Reports

On April 4, 1992, in Order No. 636, the Commission established a capacity release mechanism under which shippers could release firm transportation and storage capacity on either a short or long term basis to other shippers wanting to obtain capacity. Pipelines posted available firm and interruptible capacity information on their electronic bulletin boards (EBBs) to inform potential shippers. On September 11, 1992, in Order No. 636-A, the Commission determined, through staff audits, that the efficiency of the capacity release mechanism could be enhanced by standardizing the content and format of capacity release information and the methods by which shippers access this information, posted to EBBs.

On April 4, 1995, through Order 577 (RM95-5-000), the Commission amended § 284.243(h) of its regulations to allow shippers the ability to release capacity without having to comply with the Commission's advance posting and bidding requirements.

To create greater substitution between different forms of capacity and to enhance competition across the pipeline grid, on February 25, 2000, in Order No. 637, the Commission revised its capacity release regulations regarding scheduling, segmentation and flexible point rights, penalties, and reporting requirements. This resulted in more reliable capacity information availability and price data that shippers needed to make informed decisions in a competitive market as well as to improve shipper's and the Commission's availability to monitor marketplace behavior.

Index of Customers

In Order 581, issued September 28, 1995, the Commission established the Index of Customers (IOC) information requirement. The Index of Customers had two functions, first, for analyzing capacity held on pipelines and second, for providing capacity information to the market. The Index of Customers information aides the capacity release system by enabling shippers to identify and locate those holding capacity rights that the shippers may want to acquire. The information was required to be posted on the pipeline's EBB and filed on electronic media with the Commission. This first Index contained, for all firm customers under contract as of the first day of the calendar quarter, the full legal name of the shipper, the rate schedule number for which service is contracted, the contract effective and expiration dates, and the contract quantities.

In Order 637, the Commission required the following additional information: the receipt and delivery points held under contract and the zones or segments in which the capacity is held; the common transaction point codes; the contract number; a shipper identification number, such as DUNS; an indication whether the contract includes negotiated rates; the names of any agents or asset managers that control capacity in a pipeline rate zone; and any affiliate relationship between the pipeline and the holder of capacity. The Index is now provided through a quarterly filing on electronic media to the Commission and is posted on pipelines' Internet Web sites.

Action: The Commission is requesting a three-year extension of the current expiration date, with no changes to the existing collection of data.

Burden Statement: Public reporting burden for this collection is estimated as:

Number of respondents annually | Number of responses per respondent | Average burden hours per response | Total annual burden hours
(1) | (2) | (3) | (1)×(2)×(3)
Capacity Rpts & IOC: 103 | Capacity Rpts: 6 IOC: 4 | Capacity Rpts: 291 IOC: 3 | Capacity Rpts: 179,838 IOC: 1,236
Total: |  |  | 181,704

Estimated cost burden to respondents is as follows:

Capacity reports: 179,838 hours/2080 work hours per year × $122,137 = $10,560,035.

Index of Customers (IOC): 1,236 hours/2080 work hours per year × $122,137 = $72,578. Total Costs = $10,632,613. The estimated annual cost per respondent is: Capacity Reports: $102,525; Index of Customers: $705.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; (7) transmitting, or otherwise disclosing the information; and (8) requesting e.g. waiver or clarification of requirements.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Philis Posey,
Acting Secretary.

[FR Doc. E7-4809 Filed 3-15-07; 8:45 am]

BILLING CODE 6717-01-P